DEPARTMENT OF TRANSPORTATION

Federal Aviation Administration

14 CFR Part 73

[Docket No. FAA-2020-1197; Airspace Docket No. 20-AGL-38]

RIN 2120-AA66

Amendment of Restricted Area R-4305; Lake Superior, MN

AGENCY: Federal Aviation Administration (FAA), Department of Transportation (DOT).

ACTION: Final rule.

SUMMARY: This action amends the using agency listed for Restricted Area R-4305, Lake Superior, MN. Specifically, this action changes the using agency from “USAF, 55th Wing, Offutt AFB, NE” (55th Wing), to “U.S. Air Force, 148th Fighter Wing, Duluth International Airport, MN” (148th Fighter Wing). There are no changes to the boundaries, designated altitudes, time of designation, or activities conducted within the restricted area.

DATES: Effective date 0901 UTC, April 22, 2021.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it updates the using agency for Restricted Area R-4305, Lake Superior, MN.

Background

The U.S. Air Force requested that the Federal Aviation Administration amend the Restricted Area R-4305, Lake Superior, MN, description by changing the using agency from the “USAF, 55th Wing, Offutt AFB, NE”, to the “U.S. Air Force, 148th Fighter Wing, Duluth International Airport, MN”. Both military organizations use the restricted area and support the using agency change. Since 2011, the 148th Fighter Wing has fulfilled the scheduling and utilization reporting responsibilities for R-4305, even though the 55th Wing was the using agency of record in the R-4305 description.

As such, changing the R-4305 using agency from the 55th Wing, Offutt AFB, NE, to the 148th Fighter Wing, Duluth International Airport, MN, reflects the existing responsibilities of the 148th Fighter Wing for accomplishing the scheduling and utilization reporting for the restricted area. Additionally, this change supports the U.S. Air Force's efforts to align the using agency for R-4305 and the surrounding Military Operations Areas under the same using agency to ensure efficient use of the special use airspace complex.

There are no changes to the boundaries, designated altitudes, time of designation, or activities conducted within the affected restricted area as a result of changing the R-4305 using agency.

The Rule

This action amends title 14 Code of Federal Regulations (14 CFR) part 73 by changing the using agency name listed for restricted area R-4305 over Lake Superior, MN, from “USAF, 55th Wing, Offutt AFB, NE” to “U.S. Air Force, 148th Fighter Wing, Duluth International Airport, MN”. This action is necessary in order to reflect the current military organization tasked with using agency responsibilities for the restricted area.

This is an administrative change that does not affect the overall R-4305 restricted area boundaries, designated altitudes, time of designation, or activities conducted within the restricted area; therefore, notice and public procedure under 5 U.S.C. 553(b) are unnecessary.

Regulatory Notices and Analyses

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of updating the using agency information for R-4305, Lake Superior, MN, qualifies for categorical exclusion under the National Environmental Policy Act, and in accordance with FAA Order 1050.1F, Environmental Impacts: Policies and Procedures, paragraph 5-6.5.d. This airspace action is an administrative change to the description of restricted area R-4305, Lake Superior, MN, to update the using agency name. It does not alter the restricted area dimensions, designated altitudes, time of designation, or use of the airspace. Therefore, this airspace action is not expected to result in any significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 73

Airspace, Prohibited areas, Restricted areas.

The Amendment

In consideration of the foregoing, the Federal Aviation Administration amends 14 CFR part 73 as follows:

PART 73—SPECIAL USE AIRSPACE

1. The authority citation for part 73 continues to read as follows:

Authority: 49 U.S.C. 106(f), 106(g), 40103, 40113, 40120; E.O. 10854, 24 FR 9565, 3 CFR, 1959-1963 Comp., p. 389.

§ 73.43 [Amended]

2. Section 73.43 is amended as follows:

* * * * *

R-4305 Lake Superior, MN [Amended]

By removing the current using agency and adding the following in its place:

Using Agency. U.S. Air Force, 148th Fighter Wing, Duluth International Airport, MN.

Issued in Washington, DC, on February 22, 2021.
George Gonzalez,
Acting Manager, Rules and Regulations Group.

[FR Doc. 2021-03878 Filed 2-24-21; 8:45 am]

BILLING CODE 4910-13-P